DEPARTMENT OF ENERGY

Federal Energy Regulatory Commission

Sunshine Act Meetings

The following notice of meeting is published pursuant to section 3(a) of the government in the Sunshine Act (Pub. L. 94-409), 5 U.S.C. 552b:

AGENCY HOLDING MEETING: Federal Energy Regulatory Commission.

DATE AND TIME: April 17, 2025, 10:00 a.m.

PLACE: Room 2C, 888 First Street NE, Washington, DC 20426. Open to the public.

STATUS: Open.

MATTERS TO BE CONSIDERED: Agenda.

* Note—Items listed on the agenda may be deleted without further notice.

CONTACT PERSON FOR MORE INFORMATION: Debbie-Anne A. Reese, Secretary, Telephone (202) 502-8400.

For a recorded message listing items Stricken from or added to the meeting, call (202) 502-8627.

This is a list of matters to be considered by the Commission. It does not include a listing of all documents relevant to the items on the agenda. All public documents, however, may be viewed online at the Commission's website at https://elibrary.ferc.gov/eLibrary/search using the eLibrary link.

1124th—Meeting Open
[April 17, 2025, 10:00 a.m.]
Item No. | Docket No. | Company
A-1 | AD25-1-000 | Agency Administrative Matters.
A-2 | AD25-2-000 | Customer Matters, Reliability, Security and Market Operations.
A-3 | AD25-9-000 | System Performance Review of the January 2025 Arctic Events.
A-4 | AD25-10-000 | Large Load Presentation.
Electric
E-1 | ER24-1915-000, ER24-1915-001, ER24-342-000 | New York Independent System Operator, Inc.
E-2 | ER24-1393-000, ER24-1393-001, ER24-1393-002 | Public Service Company of New Mexico.
E-3 | ER24-330-001 | Arizona Public Service Company.
E-4 | ER24-2517-000 | Cube Yadkin Transmission LLC.
E-5 | EC25-16-000 | Tenaska Frontier Partners, Ltd.
E-6 | ER22-1349-000, ER21-1303-000 | Cleco Power LLC.
E-7 | ER25-1423-000 | Mustang Mile Solar Energy LLC.
E-8 | EC25-12-000, EC16-77-004 | BlackRock, Inc.
E-9 | ER25-170-000 | SunZia Transmission, LLC.
E-10 | ER24-1658-003 | Southwest Power Pool, Inc.
E-11 | ER25-612-000 | PJM Interconnection, L.L.C
E-12 | ER25-1466-000 | Beecher Solar, LLC and DTE Electric Company.
E-13 | ER20-1298-006, ER20-1298-007, ER20-1298-008 | Midcontinent Independent System Operator, Inc.
E-14 | ER25-1361-000 | Ratts 2 Solar LLC.
Hydro
H-1 | P-15332-001 | York Energy Storage LLC.
H-2 | P-15035-001, P-15306-000 | Premium Energy Holdings, LLC.
Certificates
C-1 | CP24-93-000 | Venice Gathering System, L.L.C.
C-2 | CP25-17-000 | Cimarron River Pipeline, LLC.
| CP25-18-000 | DCP Operating Company, LP.

A free webcast of this event is available through the Commission's website. Anyone with internet access who desires to view this event can do so by navigating to www.ferc.gov' s Calendar of Events and locating this event in the Calendar. The Federal Energy Regulatory Commission provides technical support for the free webcasts. Please call (202) 502-8680 or email customer@ferc.gov if you have any questions.

Immediately following the conclusion of the Commission Meeting, a press briefing will be held in the Commission Meeting Room. Members of the public may view this briefing in the designated overflow room. This statement is intended to notify the public that the press briefings that follow Commission meetings may now be viewed remotely at Commission headquarters but will not be telecast.

Dated: April 10, 2025.
Carlos D. Clay,
Deputy Secretary.

[FR Doc. 2025-06557 Filed 4-14-25; 11:15 am]

BILLING CODE 6717-01-P